DEPARTMENT OF DEFENSE

Office of the Secretary

Department of Defense Medicare-Eligible Retiree Health Care Board of Actuaries; Notice of Federal Advisory Committee Meeting

AGENCY: Under Secretary of Defense for Personnel and Readiness, Department of Defense (DoD).

ACTION: Notice of Federal advisory committee meeting.

SUMMARY: The DoD is publishing this notice to announce that the following Federal Advisory Committee meeting of the DoD Medicare-Eligible Retiree Health Care Board of Actuaries will take place.

DATES: Open to the public Friday, August 2, 2024, from 10:00 a.m. to 1:00 p.m. Eastern Standard time (EST).

ADDRESSES: ***THIS MEETING WILL BE HELD VIRTUALLY*** If you need any assistance, please contact Inger Pettygrove (703) 225-8803 or Inger.m.pettygrove.civ@mail.mil as soon as possible.

FOR FURTHER INFORMATION CONTACT: Inger Pettygrove, (703) 225-8803 (Voice), inger.m.pettygrove.civ@mail.mil (Email). Mailing address is Defense Human Resources Activity, DoD Office of the Actuary, 4800 Mark Center Drive, STE 03E25, Alexandria, VA 22350-8000. Website: https://actuary.defense.gov/. The most up-to-date changes to the meeting agenda can be found on the website.

SUPPLEMENTARY INFORMATION: This meeting is being held under the provisions of chapter 10 of title 5 United States Code (U.S.C.) (commonly known as the “Federal Advisory Committee Act” or “FACA”), 5 U.S.C. 552b (commonly known as the “Government in the Sunshine Act”), and 41 CFR 102-3.140 and 102-3.150).

Purpose of the Meeting: The purpose of the meeting is for the DoD Medicare-Eligible Retiree Health Care Board of Actuaries to review DoD actuarial methods and assumptions to be used in the valuation of the Medicare-Eligible Retiree Health Care Fund in accordance with the provisions of section 1114, chapter 56 (10 U.S.C. chapter 56 (10 U.S.C. 1114 et. seq).

Agenda:

1. Approve actuarial assumptions and methods needed for calculating*: (10:00 a.m.)

—September 30, 2023, unfunded liability (UFL)

—FY 2026 per capita full-time and part-time normal cost amounts

—October 1, 2024, Treasury UFL amortization payment

2. Approve per capita full-time and part-time normal cost amounts for the October 1, 2024 (FY 2025) normal cost payments* (10:30 a.m.)

3. Medicare-Eligible Retiree Health Care Fund Update (11:00 a.m.)

4. September 30, 2022, Actuarial Valuation Results (11:30 a.m.)

5. September 30, 2023, Actuarial Valuation Proposals (12:00 p.m.)

* Board approval required

Meeting Accessibility: Pursuant to 5 U.S.C. 552b and 41 CFR 102-3.140 through 102-3.165, this meeting is open to the public. All members of the public who wish to attend virtually must register by contacting Inger Pettygrove, (703) 225-8803 (Voice), inger.m.pettygrove.civ@mail.mil (Email) no later than Wednesday, July 31, 2024. Once registered, the web address and/or audio number will be provided.

Written Statements: Pursuant to 41 CFR 102-3.140 and 10(a)(3) of the FACA, the public or interested organizations may submit written comments to the DoD Medicare-Eligible Retiree Health Care Board of Actuaries about its mission and topics pertaining to this public session. Persons desiring to attend the DoD Medicare-Eligible Retiree Health Care Board of Actuaries meeting to make an oral presentation or submit a written statement for consideration at the meeting must notify Inger Pettygrove at (703) 225-8803, or inger.m.pettygrove.civ@mail.mil, by Friday, July 19, 2024.

Written comments need to be submitted in the following formats: Adobe Acrobat or Microsoft Word. Written comments may also be mailed to the address listed in FOR FURTHER INFORMATION CONTACT. Written comments not received by the DoD Medicare-Eligible Retiree Health Care Board of Actuaries at least five (5) business days prior to the meeting date, or after, will be provided to the Chair of the DoD Medicare-Eligible Retiree Health Care Board of Actuaries for consideration.

Advance copy of oral public comments must be sent via email at inger.m.pettygrove.civ@mail.mil with the subject line “DoD Medicare-Eligible Retiree Health Care Board of Actuaries: Request to Speak (insert the issue and question)” no later than 11:59 p.m. EST on Friday, July 19, 2024. Submissions received after the deadline will not be considered for oral public comment but will be provided to the Chair of the DoD Medicare-Eligible Retiree Health Care Board of Actuaries for consideration. All submitted oral comments become government property and may be published as part of the meeting record.

Registration for oral public comment is on a first-come, first-served basis. Comments are limited to two (2) minutes or less per person. After the maximum number of speakers is exceeded, individuals registered to provide oral comment will be placed on a wait list and notified should an opening become available. Should time expire for oral public comments those not presented will be provided to the Chair of the DoD Medicare-Eligible Retiree Health Care Board of Actuaries for consideration. You will be notified via email no later than Wednesday, July 31, 2024, if you have been identified to provide in-person public comment.

Please note that since the DoD Medicare-Eligible Retiree Health Care Board of Actuaries operates under the provisions of the FACA, all written comments received will be treated as public documents and will be made available for public inspection.

Dated: June 27, 2024.
Aaron T. Siegel,
Alternate OSD Federal Register Liaison Officer, Department of Defense.

[FR Doc. 2024-14647 Filed 7-2-24; 8:45 am]

BILLING CODE 6001-FR-P